DEPARTMENT OF HOMELAND SECURITY

Office of the Secretary

[Docket No. DHS-2013-0029]

Privacy Act of 1974; Department of Homeland Security Federal Emergency Management Agency—008 Disaster Recovery Assistance Files System of Records

AGENCY: Privacy Office, Department of Homeland Security.

ACTION: Notice of Privacy Act System of Records.

SUMMARY: In accordance with the Privacy Act of 1974, the Department of Homeland Security proposes to update and reissue a current Department of Homeland Security system of records titled, “Department of Homeland Security/Federal Emergency Management Agency—008 Disaster Recovery Assistance Files System of Records.” This system of records allows the Department of Homeland Security/Federal Emergency Management Agency to collect and maintain records on applicants for its Disaster Assistance programs that provide financial and other tangible assistance to survivors of Presidentially-declared disasters. As a result of a biennial review of this system, this system of records notice has been updated as follows: Legal authorities have been added to account for all assistance that applicants may be eligible for and receive from FEMA; categories of records and record source categories reference and reflect new FEMA form numbers and account for all relevant records of assistance received from FEMA and other entities; categories of individuals more accurately reflect the individuals covered by the various programs covered by this system and explain that, although anyone may apply for the Individuals and Households Program (IHP) assistance, there are citizenship requirements tied to IHP eligibility; the purpose has been clarified to include other assistance programs in addition to IHP and to also include customer satisfaction assessments; routine uses have been revised to name tribal government agencies as potential recipients to comport with section 1110 of the Sandy Recovery Improvement Act of 2013 (Pub. L. 113-2); ensure recipients of information are identified in a consistent manner; expand the universe of potential recipients identified in current routine uses; incorporate congressionally mandated routine uses per 42 U.S.C. 5714(f)(2) as to sharing information with the States; and to delete the requirement that all routine use requests be made in writing; changes have been made to the retention and disposal of the records; and the record source categories have been updated to reflect housing forms not previously listed.

Additionally, this notice includes non-substantive changes to simplify the formatting and text of the previously published notice. This updated system will be included in the Department of Homeland Security's inventory of record systems.

DATES: Submit comments on or before May 30, 2013. This updated system will be effective May 30, 2013.

ADDRESSES: You may submit comments, identified by docket number DHS-2013-0029 by one of the following methods:

• Federal e-Rulemaking Portal: http://www.regulations.gov. Follow the instructions for submitting comments.

• Fax: 202-343-4010.

• Mail: Jonathan R. Cantor, Acting Chief Privacy Officer, Privacy Office, Department of Homeland Security, Washington, DC 20528.

Instructions: All submissions received must include the agency name and docket number for this rulemaking. All comments received will be posted without change to http://www.regulations.gov, including any personal information provided.

Docket: For access to the docket to read background documents or comments received, please visit http://www.regulations.gov.

FOR FURTHER INFORMATION CONTACT: For general questions, please contact: Eric M. Leckey, 202-212-5100, Privacy Officer, Federal Emergency Management Agency, Department of Homeland Security, Washington, DC 20528. For privacy questions, please contact: Jonathan R. Cantor, 202-343-1717, Acting Chief Privacy Officer, Privacy Office, Department of Homeland Security, Washington, DC 20528.

SUPPLEMENTARY INFORMATION:

I. Background

In accordance with the Privacy Act of 1974, 5 U.S.C. 552a, the Department of Homeland Security (DHS)/Federal Emergency Management Agency (FEMA) proposes to update and reissue an existing system of records entitled, “DHS/FEMA—008 Disaster Recovery Assistance Files System of Records,” 74 FR 48763 (September 24, 2009).

This system of records notice is being published because FEMA collects, maintains, uses, retrieves, and disseminates the personally identifiable information (PII) of individuals who apply for FEMA disaster assistance in the aftermath of a Presidentially-declared disaster. FEMA's applicant records included in this system may contain income information, insurance information, housing inspection reports, and correspondence notations about the various types of assistance, including information about appeals, and other information.

The purpose of this system of records is to facilitate registration for FEMA's disaster assistance programs, to verify IHP applicant information, determine eligibility of the applicants, and to focus, direct, refer, and correspond applicants to all sources of disaster assistance. Additional purposes include identifying and implementing measures to reduce future disaster damage, preventing a duplication of federal government efforts and benefits, and identifying possible fraudulent activity after a Presidentially-declared disaster or emergency. Finally, information from this system of records may be used to facilitate FEMA's efforts to assess the customer service it provides to those receiving FEMA assistance.

FEMA collects, uses, maintains, retrieves, and disseminates the records within this system under the authority of the Robert T. Stafford Disaster Relief and Emergency Assistance Act (the Stafford Act), Pub. L. No. 93-288, as amended (42 U.S.C. 5121-5207); 6 U.S.C. 776-77, and 795; the Debt Collection Improvement Act of 1996, 31 U.S.C. 3325(d) and 7701(c)(1); the Government Performance and Results Act, Pub. L. No. 103-62, as amended; Reorganization Plan No. 3 of 1978; Executive Order 13411, “Improving Assistance for Disaster Victims,” dated August 29, 2006; and Executive Order 12862 “Setting Customer Service Standards,” dated September 11, 2003, as described in this notice.

This updated system of records provides greater transparency by encompassing all of FEMA's disaster assistance records, including those records related to IHP, as well as the customer service survey assessments within a single system of records.

This system of records notice is being published pursuant to the biennial review requirement under the Privacy Act of 1974. Specific updates are described below:

First, FEMA is expanding the purpose of the system to account for all FEMA assistance that applicants may be eligible to receive, not just IHP records, and to explicitly include customer satisfaction assessments. This change is necessary to account for records of various FEMA assistance programs that individuals may receive within this system of records. Second, the categories of records have been updated to reflect the discontinuation of FEMA's Other Needs Assistance forms (specifically, forms numbered 76-27, 76-28, 76-30, 76-32, 76-34, 76-35, 76-38, and related forms). The accompanying approved collection (OMB ICR No. 1660-0018) has also been retired to reflect FEMA's discontinuation of these forms. The categories of records have been further revised to include information that FEMA maintains about disaster assistance applicants from other FEMA programs and third-parties concerning financial payments that applicants received from other sources for similar purposes. This is necessary to prevent a duplication of benefits as mandated by the Stafford Act, 42 U.S.C. 5174, and 44 CFR 206.191, to better address situations in which a private entity is wholly or partially responsible for a declared disaster under the Stafford Act, 42 U.S.C. 5160, and to ensure that applicants can receive assistance from additional and available sources. In addition, the categories of records no longer refers to a specific form entitled, “Inspection Report FEMA Form 90-56.” This has been replaced with the more inclusive “Inspection Reports” to reflect FEMA's current practice of using an electronic device narrative as opposed to a paper form. Third, categories of individuals have been updated to more accurately reflect the individuals covered by this system and to explain that, although anyone may apply for and receive certain types of disaster assistance, not everyone will be eligible. For example, there is a citizenship requirement for IHP assistance and, in addition, not all applicants may be able to complete the full application initially for a variety of practical reasons. Fourth, the legal authorities have been revised to include the Government Performance and Results Act, Pub. Law No. 103-62, as amended; and Executive Order 12862 “Setting Customer Service Standards,” as additional authorities to augment the requirements of Executive Order 13411, “Improving Assistance for Disaster Victims,” related to its customer satisfaction assessments. Fifth, this update reflects the removal of the blanket requirement that all routine use requests be made in writing and revises several of the system's routine uses and added new routine uses as follows: Included a FEMA-state agreement as an acceptable sharing vehicle and includes contractors and sub-grantees that a state or federal agency may use to carry out programs in (H)(1); added the term “Long Term Recovery Committee” as a recipient in (H)(2); clarified that “Long Term Recovery Committee” is a recipient under (H)(3) and added “local government agency,” “utility companies,” and “hospitals/health care providers” as a recipients in (H)(3); removed the term “Disability Coordinator” and added the term “assistive technology” in (H)(4); added (H)(5) to further the FEMA Administrator's efforts to include and involve the private sector in disaster management pursuant to 6 U.S.C. 313(b)(2); added (H)(6) to facilitate the provision of medical equipment and assistive technology to IHP applicants; added (H)(7) to allow for sharing with federal, state, tribal, and local government agencies for purposes of performing surveys and/or studies; added language to (I) to specify the information that DHS/FEMA will share; and added “phone number” and “number of household occupants” in (M) to the information that will be shared. Sixth, the retention and disposal section has been revised to include the National Archives and Records Administration (NARA) authority and the retention schedule information for FEMA's customer satisfaction assessment records. Lastly, the record source categories have been updated to reflect current FEMA form number 010-0-12 and to include other housing forms not previously listed. FEMA has also made non-substantive grammatical changes throughout this notice for clarification purposes.

This updated system will be included in DHS's inventory of record systems.

II. Privacy Act

The Privacy Act embodies fair information practice principles in a statutory framework governing the means by which Federal Government agencies collect, maintain, use, and disseminate individuals' records. The Privacy Act applies to information that is maintained in a “system of records.” A “system of records” is a group of any records under the control of an agency from which information is retrieved by the name of an individual or by some identifying number, symbol, or other identifying particular assigned to the individual. In the Privacy Act, an individual is defined to encompass U.S. citizens and lawful permanent residents. As a matter of policy, DHS extends administrative Privacy Act protections to all individuals when systems of records maintain information on U.S. citizens, lawful permanent residents, and visitors.

Below is the description of the DHS/FEMA-008 Disaster Recovery Assistance Files System of Records.

In accordance with 5 U.S.C. 552a(r), DHS has provided a report of this system of records to the Office of Management and Budget (OMB) and to Congress.

System of Records

Department of Homeland Security (DHS)/Federal Emergency Management Agency (FEMA)-008

System name:

DHS/FEMA-008 Disaster Recovery Assistance Files System of Records.

Security classification:

Unclassified.

System location:

National Processing Service Centers (NPSC) located at FEMA MD-NPSC, 6511 America Boulevard, Hyattsville, MD 20782; FEMA VA-NPSC, 430 Market Street, Winchester, VA 22603; and FEMA TX-NPSC, 3900 Karina Lane, Denton, TX 76208. In addition, FEMA's Disaster Assistance Improvement Program (DAIP), National Emergency Management Information System-Individual Assistance (NEMIS-IA), and Enterprise Data Warehouse/Operational Data Store (EDW/ODS) information technology systems may contain these records.

Categories of individuals covered by the system:

All individuals who apply for or express interest in applying for FEMA disaster assistance following a Presidentially-declared major disaster or emergency. (Note: FEMA will accept applications from any individual, however, an individual must be a United States citizen, non-citizen national, or qualified alien to meet the eligibility requirements for Individuals and Households Program assistance.)

Categories of records in the system:

(a) Registration Records (Disaster Assistance Pre-Registration Intake Form, Disaster Assistance Registration/Application, FEMA Form(s) 009-0-1, 009-0-2, 009-0-1t, 009-0-1int, and 009-0-2int):

• Individual applicant's full name;

• Applicant's Social Security Number, alien registration number, co-applicant's Social Security Number;

• Date of birth;

• Phone numbers;

• Email addresses;

• Addresses (damaged dwelling address and any other current address if different than damaged dwelling address);

• Geospatial location of dwelling;

• Language(s) spoken;

• Date of disaster and/or property loss including cause of damage and estimates of repair;

• Current location;

• Name of each disaster (disaster number);

• Income information;

• Acceptable forms of identification (e.g., driver's license, state/federal issued photo identification);

• Emergency or other needs of the individual (e.g., food, clothing, shelter, medical, dental, moving, storage, funeral, functional);

• Type of residence;

• Insurance coverage information including insurance type and insurance company name;

• Household size and composition including number, age, and dependent status;

• Bank name and account information including electronic funds transfer information; and

• Right of entry to property consent and other written consents.

(b) Inspection Reports:

• Inspection reports contain applicants' personally identifiable information (PII) and results of assessments of damaged real and personal property and goods, which may include applicant homes and personal items and notations of clearing of muck and debris by contractors and partnering agencies.

(c) Temporary Housing Assistance Eligibility Determinations (FEMA Forms 009-0-5, and 009-0-6) and Application for Continued Temporary Housing Assistance (FEMA Form 010-0-12), Request for Site Inspection (FEMA FORM 010-0-9), Landowners Ingress/Egress Agreement (FEMA FORM 010-0-10), as well as the following related information:

• Correspondence and documentation related to the approval and disapproval of temporary housing assistance including: General correspondence; complaints, appeals, and resolutions; requests for disbursement of payments; inquiries from tenants and landlords; general administrative and fiscal information; payment schedules and forms; termination notices; information shared with the temporary housing program staff from other agencies to prevent the duplication of benefits; leases; contracts; specifications for repair of disaster damaged residences; reasons for eviction or denial of aid; sales information after tenant purchase of housing units; and the status or disposition of housing applications.

(d) Assistance from Other Sources:

• Notations and reports of decisions for disaster or similar financial awards and assistance from other FEMA Programs, federal and state agencies, insurance companies, employer, bank, financial, power/utility companies, health care providers, safety/rescue services, and public or private entities as they relate to determinations of applicants' eligibility for IHP programs disaster assistance;

• Correspondence between the applicant and FEMA concerning disaster assistance determinations and subsequent appeals and/or arbitration of such determinations; and

• Other files independently kept by the state that contain records of persons who request disaster aid, specifically for the “Other Needs” assistance provision of the IHP administrative files and reports required by FEMA. As to individuals, the state keeps the same type of information as described above under registration, inspection, and temporary housing assistance records.

(e) Declaration and Release Form (009-0-3, 009-0-4).

(f) Customer service survey responses.

Authority for maintenance of the system:

Robert T. Stafford Disaster Relief and Emergency Assistance Act (the Stafford Act), Public Law 93-288, as amended (42 U.S.C. 5121-5207); 6 U.S.C. 776-777, and 795; the Debt Collection Improvement Act of 1996, 31 U.S.C. 3325(d) and 7701(c)(1); the Government Performance and Results Act, Public Law 103-62, as amended; Executive Order 13411 “Improving Assistance to Disaster Victims,” dated August 29, 2006; and Executive Order 12862 “Setting Customer Service Standards,” dated September 11, 2003.

Purpose(s):

To register applicants seeking disaster assistance from FEMA, to verify IHP applicant information, determine eligibility of the applicants, to focus, direct, refer, and correspond applicants to all sources of disaster assistance, and to inspect damaged property. Additional purposes include: to identify and implement measures to reduce future disaster damage, to prevent a duplication of federal government efforts and benefits, identify possible fraudulent activity after a Presidentially-declared disaster or emergency, and to assess the customer satisfaction of FEMA disaster assistance applicants.

Routine uses of records maintained in the system, including categories of users and the purposes of such uses:

In addition to those disclosures generally permitted under 5 U.S.C. 552a(b) of the Privacy Act, all or a portion of the records or information contained in this system may be disclosed outside DHS/FEMA as a routine use pursuant to 5 U.S.C. 552a(b)(3) as follows upon request unless noted otherwise:

A. To the Department of Justice (DOJ), including U.S. Attorney Offices, or other federal agencies conducting litigation or in proceedings before any court, adjudicative, or administrative body, when it is relevant or necessary to the litigation and one of the following is a party to the litigation or has an interest in such litigation:

1. DHS or any component thereof;

2. any employee of DHS in his/her official capacity;

3. any employee of DHS in his/her individual capacity when DOJ or DHS has agreed to represent the employee; or

4. the U.S. or any agency thereof.

B. To a congressional office from the record of an individual in response to an inquiry from that congressional office made at the request of the individual to whom the record pertains.

C. To the National Archives and Records Administration (NARA) or General Services Administration pursuant to records management inspections being conducted under the authority of 44 U.S.C. §§ 2904 and 2906.

D. To an agency or organization for the purpose of performing audit or oversight operations as authorized by law, but only such information as is necessary and relevant to such audit or oversight function.

E. To appropriate agencies, entities, and persons when:

1. DHS suspects or has confirmed that the security or confidentiality of information in the system of records has been compromised;

2. DHS has determined that as a result of the suspected or confirmed compromise, there is a risk of identity theft or fraud, harm to economic or property interests, harm to an individual, or harm to the security or integrity of this system or other systems or programs (whether maintained by DHS or another agency or entity) that rely upon the compromised information; and

3. The disclosure made to such agencies, entities, and persons is reasonably necessary to assist in connection with FEMA's efforts to respond to the suspected or confirmed compromise and prevent, minimize, or remedy such harm.

F. To contractors and their agents, grantees, experts, consultants, and others performing or working on a contract, service, grant, cooperative agreement, or other assignment for FEMA, when necessary to accomplish an agency function related to this system of records. Individuals provided information under this routine use are subject to the same Privacy Act requirements and limitations on disclosure as are applicable to FEMA officers and employees.

G. To an appropriate federal, state, tribal, local, international, or foreign law enforcement agency or other appropriate authority charged with investigating or prosecuting a violation or enforcing or implementing a law, rule, regulation, or order, when a record, either on its face or in conjunction with other information, indicates a violation or potential violation of law, which includes criminal, civil, or regulatory violations and such disclosure is proper and consistent with the official duties of the person receiving the information.

H. To certain government, private sector, and voluntary entities when FEMA may disclose applicant information necessary to prevent a duplication of efforts or a duplication of benefits in determining eligibility for disaster assistance, and/or to address unmet needs of eligible, ineligible, or partially eligible FEMA applicants. The receiving entity is not permitted to alter or to further disclose the information to other disaster organizations or outside third parties. FEMA may make such disclosures under the following circumstances:

1. To other federal agencies, and agencies of states, tribal, and local governments, including programs that make available any disaster assistance to individuals and households and/or give preference of priority to disaster applicants, including those that evacuate from a declared state to another state and to prevent a duplication of efforts or benefits. State agencies may request and receive information using the protocols established in an appropriate FEMA-state agreement as defined in 44 CFR 206.44. Federal and state government agencies may share information they receive from FEMA with their contractors/grantees, and/or agents that are administering a disaster related program on behalf of the Agency (e.g., other state, tribal, and local agencies working under the guise of the requesting state agency) according to the same protocols and safeguards protecting the information.

2. To local government agencies, voluntary organizations (as defined in 44 CFR 206.2(a)(27)), and FEMA- and/or state- recognized Long Term Recovery Committees (LTRC) and their members for a declared county charged through legislation or chartered with administering disaster relief/assistance programs. The written request from the entity shall include the applicant's name, date of birth, FEMA registration/application number, and damaged dwelling address (or geospatial location of dwelling). The entity must explain the type of tangible assistance being offered and the type of verification required before the assistance can be provided.

3. To local government agencies, utility companies, hospitals/health care providers, and voluntary organizations (as defined at 44 CFR 206.2(a)(27)). The voluntary organization must either have a national membership in good standing with the National Voluntary Organizations Active in Disaster (NVOAD), be a FEMA or state recognized Long-Term Recovery Committee (LTRC), or member of such committee for that disaster. The above-mentioned entities must have a disaster assistance program to address the unmet disaster-related needs of disaster survivors and be actively involved in the recovery efforts of the disaster. FEMA may disclose to the above mentioned entities lists of applicant names, contact information, their FEMA inspected loss amount, amounts received, award category, and Small Business Administration loan status for the purpose of providing additional disaster assistance and/or addressing unmet needs. FEMA may disclose the aforementioned data elements according to different sub-categories of disaster applicants (e.g., those that received maximum amounts, those that have flood insurance coverage, those with emergency needs, or those over a certain age). FEMA shall release this information only during the disaster period of assistance as defined in 44 CFR 206.110(e), plus 90 days to address any appeals (44 CFR 206.115(f)).

4. FEMA may immediately disclose, on a case by case basis, to an entity qualified under Routine Use (H)(3), and to entities that loan or donate new or reused durable medical equipment and assistive technology, information about applicants in need of such equipment or technology as a result of a declared disaster, if the applicant in question has an immediate need for durable medical equipment or assistive technology, and the qualifying entity is able to provide the assistance in question. An immediate need is one that is of such urgency or severity that one could reasonably expect the absence of the durable medical equipment or assistive technology to place the health of the applicant in serious jeopardy, to compromise the safety of the applicant, or prevent the applicant from relocating from a shelter facility to the next stage of recovery.

Specifically, FEMA may release the applicant's name and limited contact information (telephone number, email address, and if being delivered to a location other than a shelter, the current address and/or geospatial location data). A written request is not necessary in this situation; however, FEMA shall provide a written letter (or email) along with the information to the receiving entity, and in turn the receiving entity shall acknowledge receipt of message that it has received the information and has contacted the applicant. In addition, the entity will confirm that it has taken the steps to protect the information provided.

5. To a private sector entity/business for the purpose of administering, coordinating, and/or providing tangible assistance to the entity's employees who have applied for assistance to address their disaster-related losses. The request from the private sector entity/business must include its employees' names, dates of birth, damaged dwelling addresses, and the types of tangible assistance the entity is offering its employees. FEMA shall only release the contact information of those applicants who are employed by the requesting entity. FEMA shall release this information only during the disaster period of assistance as defined in 44 CFR § 206.110(e).

6. To organizations that are able to provide durable medical equipment and assistive technology to applicants in need of such devices as a result of a declared disaster. FEMA may disclose applicants' name and contact information to include the current address and phone number.

7. To federal, state, tribal, and local government agencies for the purpose of contacting FEMA IHP applicants to seek their voluntary participation in surveys or studies concerning effects of disasters, program effectiveness, and to identify possible ways to improve community preparedness and resiliency for future disasters.

I. To federal, state, tribal, or local government agencies; voluntary organizations; insurance companies; employers; any public or private entities; banks and financial institutions when an applicant's eligibility, in whole or in part, for FEMA's IHP depends upon financial benefits already received or available from that source for similar purposes as necessary to determine benefits; and to prevent duplication of disaster assistance benefits (as described in 42 U.S.C. 5155 of the Stafford Act). FEMA initiates the transaction by only disclosing the name, address, and date of birth of an applicant in order to properly identify the same and obtain desired relevant information from entities listed above.

J. To federal, state, tribal, or local government agencies charged with the implementation of hazard mitigation measures and the enforcement of hazard-specific provisions of building codes, standards, and ordinances. FEMA will only disclose information for the following purposes:

1. For hazard mitigation planning purposes, to assist federal, state, tribal, or local government agencies in identifying high-risk areas and preparing mitigation plans that target those areas for hazard mitigation projects implemented under federal, state, tribal, or local hazard mitigation programs.

2. For enforcement purposes, to enable federal, state, tribal, or local government agencies, to ensure that owners repair or rebuild structures in conformity with applicable hazard-specific building codes, standards, and ordinances.

K. To the Department of the Treasury, pursuant to the Debt Collection Improvement Act of 1996, 31 U.S.C. 3325(d) and 7701(c)(1), as amended. An applicant's Social Security Number will be released in connection with a request that the Department of the Treasury provide a disaster assistance payment to an applicant under the IHP.

L. To a state, local, or tribal government agency in connection with billing that state, local, or tribal government for the applicable non-federal cost share under the IHP. Information shared shall only include applicants' names, contact information, and amounts of assistance received.

M. To state, tribal, or local government emergency managers, when an applicant is occupying a FEMA temporary housing unit, for the purposes of preparing, administering, coordinating, and/or monitoring emergency response, public safety, and evacuation plans. FEMA shall only release the applicants' phone numbers, address, and number of household occupants of the housing unit.

N. To the Department of the Treasury, Department of Justice, the United States Attorney's Office, or other third party for further collection action on any delinquent debt when circumstances warrant.

O. To federal, state, tribal, or local law enforcement authorities, or agencies, or other entities authorized to investigate and/or coordinate locating missing children and/or reuniting families.

P. To state, tribal, or local government election agencies/authorities that oversee the voting process within their respective municipalities, for the purpose of ensuring voting rights of individuals who have applied for FEMA assistance, limited to their own respective citizens who are displaced by a Presidentially-declared major disaster or emergency out of their voting jurisdiction.

Q. To certain federal, state, tribal, or local government agencies to update the applicant's current records (e.g., change of address, effective date of change of address) when that agency needs to update contact information (e.g., the Social Security Administration, a State Department of Motor Vehicles, or a State health agency).

R. To other federal, state, local, or tribal government agencies, and voluntary organizations under approved computer matching efforts.

S. To the news media and the public, with the approval of the DHS Chief Privacy Officer in consultation with the DHS General Counsel and FEMA Chief Counsel when there is a legitimate public interest in the disclosure of the information or when disclosure is necessary to inform the public or is necessary to demonstrate the accountability of DHS's officers, employees, or individuals covered by the system, except to the extent it is determined that release of the specific information in the context of a particular case would constitute an unwarranted invasion of personal privacy.

Disclosure to consumer reporting agencies:

Disclosure under 5 U.S.C. 552a(b)(12). DHS/FEMA may make disclosures from this system to “consumer reporting agencies” as defined in the Fair Credit Reporting Act, 15 U.S.C. 1681a(f), as amended; or the Federal Claims Collection Act of 1966, 31 U.S.C. 3701(a)(3), as amended.

Policies and practices for storing, retrieving, accessing, retaining, and disposing of records in the system:

Storage:

Records in this system are stored electronically or on paper in secure facilities in a locked drawer behind a locked door. The records may be stored on magnetic disc, tape, digital/electronic media.

Retrievability:

Records may be retrieved by an individual's name, address, Social Security Number, and case file number.

Safeguards:

FEMA safeguards the records in this system in accordance with applicable rules and policies, including all applicable DHS automated systems security and access policies. Strict controls have been imposed to minimize the risk of compromising the information that is being stored. Access to the computer system containing the records in this system is limited to those individuals who have a need to know the information for the performance of their official duties and who have appropriate clearances or permissions.

Retention and disposal:

Records pertaining to disaster assistance will be placed in inactive storage two years after FEMA receives the application and will be destroyed when they are six years and three months old, in accordance with NARA Authority N1-311-86-1, item 4C10a. Records pertaining to temporary housing will be destroyed three years after close of the operation in accordance with NARA Authority N1-311-86-1, item 4C10b. Closeout occurs when the disaster contract is terminated. Records pertaining to the IHP program will retire to the Federal Records Center (FRC) one year after closeout and be destroyed three years after closeout. Records pertaining to individual assistance customer satisfaction assessments are stored in accordance with NARA Authority N1-311-00-1. The customer service assessment forms that have been filled out and returned by disaster assistance applicants are temporary records that are destroyed upon transmission of the final report, per NARA Authority N1-311-00-1, item 1. The statistical and analytical reports resulting from these assessments are temporary records that are retired 3 years after the final report cutoff and destroyed 20 years after the report cutoff, per NARA Authority N1-311-00-1, item 2. The assessment results database are temporary records that are destroyed when no longer needed for analysis purposes, per NARA Authority N1-311-00-1, item 3.

System Manager and address:

Division Director, Individual Assistance Division, Federal Emergency Management Agency, 500 C Street SW., Washington, DC 20472.

Notification procedure:

Individuals applying for IHP assistance may access their information online via the Disaster Assistance Center using the user ID, password, system generated PIN, and authentication that was established during the application process. Applicants may also call a NPSC representative to access their information by providing their registration ID.

In addition, individuals seeking notification of and access to any record contained in this system of records, or seeking to contest its content, may submit a request in writing to the FEMA Disclosure Officer, 500 C Street SW., Washington, DC 20472. If an individual believes more than one component maintains Privacy Act records concerning him or her, the individual may submit the request to the Chief Privacy Officer, Department of Homeland Security, 245 Murray Drive SW., Building 410, STOP-0550, Washington, DC 20528.

When seeking records about yourself from this system of records or any other FEMA system of records your request must conform with the Privacy Act regulations set forth in 6 CFR Part 5. You must first verify your identity, meaning that you must provide your full name, current address, and date and place of birth. You must sign your request, and your signature must either be notarized or submitted under 28 U.S.C. 1746, a law that permits statements to be made under penalty of perjury as a substitute for notarization. While no specific form is required, you may obtain forms for this purpose from the Chief Privacy Officer and Chief Freedom of Information Act Officer, http://www.dhs.gov/foia or 1-866-431-0486. In addition, you should:

Explain why you believe the Department would have information on you;

• Identify which component(s) of the Department you believe may have the information about you;

• Specify when you believe the records would have been created; and

• Provide any other information that will help the FOIA staff determine which DHS component agency may have responsive records; and

If your request is seeking records pertaining to another living individual, you must include a statement from that individual certifying his/her agreement for you to access his/her records.

Without the above information the component(s) may not be able to conduct an effective search, and your request may be denied due to lack of specificity or lack of compliance with applicable regulations.

Record access procedures:

See “Notification procedure” above.

Contesting record procedures:

See “Notification procedure” above.

Record source categories:

FEMA receives information from individuals who apply for disaster assistance through three different media: (1) Electronically via the Internet at http://www.disasterassistance.gov (FEMA Form 009-0-1 and FEMA Form 009-0-2); (2) by calling FEMA's toll-free number 1-800-621-3362 (FEMA Form 009-0-1t and FEMA Form 009-0-2t); and (3) through submission of a paper copy of pre-registration intake, FEMA Form 009-0-1 and its Spanish-language equivalent, FEMA Form 009-0-2, or via a pre-registration intake form. In addition, information in this system of records derives from Temporary Housing Assistance Eligibility Determinations (FEMA Forms 009-0-5, and 009-0-6) and Application for Continued Temporary Housing Assistance (FEMA Form 010-0-12), as well as related information (FEMA Forms 009-0-5 and 009-0-6). Information may also come from FEMA inspectors, financial institutions, insurance companies, state, local, tribal, and voluntary agencies providing disaster relief, and commercial databases (for verification purposes).

Exemptions claimed for the system:

None.

Dated: April 19, 2013.
Jonathan R. Cantor,
Acting Chief Privacy Officer, Department of Homeland Security.

[FR Doc. 2013-10173 Filed 4-29-13; 8:45 am]

BILLING CODE 9110-17-P